Proclamation 9440 of April 29, 2016

Public Service Recognition Week, 2016

By the President of the United States of America

A Proclamation

Our Nation's progress has long been fueled by the efforts of selfless citizens who come together in service to their fellow Americans to change our country for the better. At the birth of our Nation, our Founders fought to secure a democracy that represents the people, and the civil servants who pour everything they have into making a difference are the individuals who keep that democracy running smoothly and effectively. During Public Service Recognition Week, we honor those who dedicate themselves to ensuring America's promise rings true in every corner of our country, and we recommit to upholding the values they fight for every day.

Civil servants demonstrate resolve and inspire optimism in sectors throughout our country. They are engineers and educators, military service members and social workers, and their individual and collective contributions drive us forward on the path toward an ever brighter tomorrow. Both at home and abroad, they carry forward the notion that as Americans, we are committed to looking out for one another and to working together to forge a bright future for generations to come. And the only way our Nation's civil service will remain at the forefront of our progress is for talented and patriotic young people to join in the effort of serving their fellow Americans—whether for 1 year or throughout their career.

Throughout this week, we recognize the tireless efforts of the women and men who strive to make sure ours is a government that stays true to its founding ideals. With 85 percent of Federal Government jobs located outside of the Washington, DC area, our Federal workers, together with leaders and advocates from State and local levels, play key roles in ensuring the voices of the American people are heard. And even in the toughest of circumstances, including a politics that does not always fully recognize the value of their work, our public servants—often at great personal sacrifice—continue striving to build a better country and to bring lasting change to the lives of ordinary people across America. These selfless individuals tackle great challenges facing our country. Whether leading important scientific advances, helping homeless veterans get off the street and reclaim their lives, supporting small businesses and impoverished communities, or sustaining our environment by reducing harmful pollutants emitted into our air and waterways, these often unsung heroes make vital contributions to our country and help make our founding promise real for more people.

The well-being of our people depends on the passion and dedication of our workforce, and my Administration has worked to recruit, uplift, and empower exceptional civil servants. In an effort to fully realize the belief that all of us have the capacity to make a meaningful difference and contribute to our shared success, I have directed the Office of Personnel Management to begin taking action to “ban the box” on most Federal job applications so we are not disqualifying people with a criminal record simply because of a mistake they made in the past. Additionally, we are implementing programs that encourage Government-wide collaboration, giving workers a chance to lend and develop their talents across agencies and departments so our best ideas can flourish and grow to their fullest potential.

Serving the public is not just about a paycheck—it's about contributing to the steady effort to perfect our Union over time so our democracy works for everyone. This week, let us embrace the hopeful spirit that embodies the extraordinary work of our civil servants. It is the same spirit that built America, and because of the hard work of compassionate and determined public servants, it will continue to build us up for generations to come.

NOW, THEREFORE, I, BARACK OBAMA, President of the United States of America, by virtue of the authority vested in me by the Constitution and the laws of the United States, do hereby proclaim May 1 through May 7, 2016, as Public Service Recognition Week. I call upon all Americans to recognize the hard work and dedication of our Nation's public servants and to observe this week by expressing their gratitude and appreciation through appropriate activities, events, and programs.

IN WITNESS WHEREOF, I have hereunto set my hand this twenty-ninth day of April, in the year of our Lord two thousand sixteen, and of the Independence of the United States of America the two hundred and fortieth.

[FR Doc. 2016-10661

Filed 5-3-16; 11:15 am]

Billing code 3295-F6-P